DEPARTMENT OF JUSTICE

Notice of Lodging of Amendment To Consent Decree in Accordance With the Comprehensive Environmental Response, Compensation, and Liability Act (“CERCLA”)

In accordance with Department of Justice Policy, 28 CFR 50.7, 38 FR 19029, and 42 U.S.C. 9622(d), notice is hereby given that on January 17, 2002, a proposed Order to Amend Consent Decree was lodged with the United States District Court for the Eastern District of Pennsylvania in United states and the Commonwealth of Pennsylvania v. Settling Defendants, Civil Action No. 99-4402.

In 1999, the United States and Settling Defendants entered into a Consent Decree in this case concerning the Malvern TCE Superfund Site (“Site”) in Chester County, Pennsylvania, for conduct of certain response actions at the Site and the payment of certain response costs therefore. This Consent Decree was entered by the Court on December 13, 1999.

The Consent Decree contains a reservation of rights by the Settling Defendants as to, among other things, claims against the United States “based on the discovery of information or documentation that * * * the volume of hazardous substances attributable to the United states exceeds the amount agreed to by the Settling Parties * * *.” Decree paragraph 109(c). Appendix F to the Decree provides a procedure and payment schedule that specifies the response costs on a per-drum basis for such additional waste attributable to the United States.

Additional drums of waste attributable to the United States Department of the Army (“Army”) and to the National Institutes of Health (“NIH”) have been identified. Accordingly, the United States and Settling Defendants have agreed to amendments to the Consent Decree to: (1) Add the Army and NIH as parties to the Consent Decree, thereby resolving potential claims against these Agencies for cleanup costs relating to drums of hazardous waste discovered at the Site; and to (2) reflect that 203 drums have been attributed to the Army, and that 165.60 drums have been attributed to NIH, with a total proposed payment by the United States to the Settling Performing Defendants of $464,506.90, on behalf of these Agencies as their respective shares of the performance and payment obligations to be incurred by Settling Defendants in carrying out response actions required by the Consent Decree. Consistent with the applicable requirement of the Consent Decree, the Commonwealth of Pennsylvania has been consulted and has concurred in the amendments.

The Department of Justice will receive written comments by facsimile transmission (“FAX”) relating to the proposed Order to Amend Consent Decree for thirty (30) days from the date of publication of this Notice. Comments should be sent by FAX to (202) 514-8865, and should be addressed to D. Judith Keith, Environment and Natural Resources Division, Environmental Defense Section, U.S. Department of Justice, Washington, DC, and should refer to United States and the Commonwealth of Pennsylvania v. Settling Defendants, DOJ. Ref. No. 90-11-6-80.

A copy of the proposed Order to Amend Consent Decree may be obtained by request. Requests should be sent by FAX to (202) 514-8865, and should be addressed to Allison Booker, U.S. Department of Justice, Environment and Natural Resources Division, Environmental Defense Section, and should refer to the proposed Order to Amend Consent Decree in United States and the Commonwealth of Pennsylvania v. Settling Defendants, DOJ. Ref. No. 90-11-6-80.

Letitia J. Grishaw,
Chief, Environment & Natural Resources Division, Environmental Defense Section.

[FR Doc. 02-4434 Filed 2-22-02; 8:45 am]

BILLING CODE 4410-15-M